SMALL BUSINESS ADMINISTRATION

[Disaster Declaration #21298, #21299, #21300 and #21301; SISSETON-WAHPETON OYATE OF THE LAKE TRAVERSE RESERVATION Disaster Number SD-20014 and Disaster Number ND-20012]

Presidential Declaration of a Major Disaster for Public Assistance Only for the Sisseton-Wahpeton Oyate of the Lake Traverse Reservation

AGENCY: U.S. Small Business Administration.

ACTION: Amendment 1.

SUMMARY: This is an amendment of the Presidential declaration of a major disaster for the Sisseton-Wahpeton Oyate of the Lake Traverse Reservation (FEMA-4890-DR), dated September 11, 2025.

Incident: Severe Storm and Flooding.

DATES: Issued on October 6, 2025.

Incident Period: June 12, 2025 through June 16, 2025.

Physical Loan Application Deadline Date: December 5, 2025.

Economic Injury (EIDL) Loan Application Deadline Date: June 11, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for Private Non-Profit organizations on the Sisseton-Wahpeton Oyate of the Lake Traverse Reservation, dated September 11, 2025, is hereby amended to extend the deadline for filing applications for physical damage as a result of this disaster to December 5, 2025. All other information in the original declaration remains unchanged.

(Catalog of Federal Domestic Assistance Number 59008)

(Authority: 13 CFR 1234.3(b).)

James Stallings,
Associate Administrator, Office of Disaster Recovery and Resilience.

[FR Doc. 2025-19506 Filed 10-8-25; 8:45 am]

BILLING CODE 8026-09-P